DEPARTMENT OF THE INTERIOR

National Park Service

[NPS-WASO-NAGPRA-NPS0033622; PPWOCRADN0-PCU00RP14.R50000]

Notice of Inventory Completion: U.S. Department of the Interior, Bureau of Indian Affairs, Washington, DC

AGENCY: National Park Service, Interior.

ACTION: Notice.

SUMMARY: The U.S. Department of the Interior, Bureau of Indian Affairs (BIA), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the BIA. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the BIA at the address in this notice by April 22, 2022.

FOR FURTHER INFORMATION CONTACT: Dr. BJ Howerton, NAGPRA Coordinator, Bureau of Indian Affairs, 1001 Indian School Road NW, Room 341, Albuquerque, NM 87104, telephone (505) 563-3013, email BJ.Howerton@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC, and in the physical custody of the Arizona State Museum (ASM), University of Arizona, Tucson, AZ. The human remains and associated funerary objects were removed from locations within the boundaries of the Fort Apache Indian Reservation, Gila and Navajo Counties, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by ASM and BIA professional staff in consultation with representatives of the Hopi Tribe of Arizona; White Mountain Apache Tribe of the Fort Apache Reservation, Arizona; and the Zuni Tribe of the Zuni Reservation, New Mexico (hereafter referred to as “The Consulted Tribes”).

History and Description of the Remains

Between 1963 and 1977, two cultural items were removed from site AZ P:14:1(ASM), also known as the Grasshopper Pueblo, in Navajo County, AZ. The items were removed during legally authorized excavations conducted by the University of Arizona Archeological Field School. Archeological collections from the site were brought to ASM at the end of each field season and accessioned. The two associated funerary objects are textile fragments.

Site AZ P:14:1(ASM) is a large village site containing approximately 500 rooms in more than a dozen stone room blocks arranged around three main plazas. The site has been dated A.D. 1275-1400 based on tree ring dates, architectural forms, building technology, and ceramic styles. These characteristics, as well as the mortuary pattern and other items of material culture, are consistent with the archeologically described Upland Mogollon or prehistoric Western Pueblo tradition.

In the summers of 1939 and 1940, human remains representing, at minimum, two individuals were removed from site AZ P:16:1(ASM), also known as Bear Ruin, in Navajo County, AZ. These excavations were legally authorized and carried out by Emil Haury under the auspices of ASM and the Department of Anthropology at the University of Arizona. Archeological collections from Haury's excavations, including human remains and associated funerary objects, were brought to ASM at the end of each field season. The human remains (designated as “F.B. 05” and “F.B. 07”) belong to two adults of indeterminate sex. No known individuals were identified. The three associated funerary objects are one turquoise pendant, one ceramic sherd, and one bone awl.

Site AZ P:16:1(ASM) consists of 14 houses, two storage rooms, and a kiva. The site has been dated A.D. 600-800 based on ceramic styles, architectural forms, and tree-ring data. These characteristics, as well as the mortuary pattern and other items of material culture, are consistent with the Mogollon archeological tradition.

In the summers of 1940 and 1941, human remains representing, at minimum, one individual were removed from site AZ P:16:2(ASM), also known as Tla Kii, in Navajo County, AZ. These excavations were legally authorized and carried out by Emil Haury under the auspices of ASM and the Department of Anthropology at the University of Arizona. Archeological collections from Haury's excavations, including human remains, were brought to ASM at the end of each field season. The skull of this individual was retained by a student, Mr. Langenwalter, who worked under Haury. The human remains were in the custody of Mr. Langenwalter's family until 2007, when his daughter contacted ASM to transfer the remains. The human remains most likely belong to a mature adult male. No known individual was identified. No associated funerary objects are present.

Site AZ P:16:2(ASM) consists of three pit houses, one storage structure, two structures, a main pueblo, two kivas, and 14 storage pits. Based on architectural forms and ceramic styles, along with other items of material culture, the site is dated A.D. 900-1200 and is associated with the Mogollon archeological tradition.

In the summers of 1941 and 1944, human remains representing, at minimum, one individual were removed from site AZ P:16:20(ASM), also known as Bluff Site, in Navajo County, AZ. These excavations were legally authorized and carried out by Emil Haury under the auspices of ASM and the Department of Anthropology at the University of Arizona. Archeological collections from Haury's excavations, including human remains, were brought to ASM at the end of each field season. The fragmentary human remains (designated as “Grid E5, burial 1”) most likely belong to a juvenile or older individual of indeterminate sex. No known individual was identified. No associated funerary objects are present.

Site AZ P:16:20(ASM) comprises a pit house village belongs to the Cottonwood and Hilltop phases of the Mogollon archeological culture. It is dated A.D. 200-600 based on architectural forms and tree-ring samples.

In the summer of 1966, human remains representing, at minimum, 18 individuals were removed from site AZ P:16:62(ASM), also known as Skiddy Canyon Ruin, in Navajo County, AZ. These excavations, led by Laurens Hammack of ASM in conjunction with ASM and the Museum of Northern Arizona, were legally authorized and carried out as part of the Highway Salvage program of the Arizona Highway Department (project no. F-026-1[17]). Archeological collections from these excavations were sent to ASM in March of 1967; the remains of one of the individuals were sent to ASM in March of 1979. The human remains are designated “burial 01, feature 6,” an infant; “burial 02, feature 14,” a young adult female; “burial 03, feature 17,” an adult of indeterminate sex; “burial 04, feature 18,” an adult male; “burial 05, feature 19,” a mature adult female; “burial 06, feature 21,” a mature adult of indeterminate sex; “burial 07, feature 22,” a mature adult male; “burial 09, feature 24,” a mature adult female; “burial 10, feature 20,” an adult male; “Feature 0 (General Surface),” an adult of indeterminate sex; “Feature 1,” an adult of indeterminate sex; “Floor against S. wall of Feature 16,” an adult of indeterminate sex; “from fill of Feature 12,” an adult of indeterminate sex; “from ventilator fill of Feature 15,” an adult of indeterminate sex; “general fill of feature 20 (Kiva),” an adult of indeterminate sex; “general fill of Feature 4 (3811),” a juvenile or older of indeterminate sex; “general fill of Feature 4 (3394),” an adult of indeterminate sex; “burial 11,” a mature adult male. No known individuals were identified. The 13 associated funerary objects are one jar, four bowls, two stone fragments, one worked faunal bone, one projectile point, two shell beads, one pitcher, and one shell bracelet fragment.

Site AZ P:16:62(ASM) consists of a pit house, kiva, an eight-room pueblo, and associated trash areas. Based on architectural forms and ceramic styles, along with other cultural materials, the site dates A.D. 600-1200 and is associated with the Mogollon archeological tradition.

Between 1931 and 1939, human remains representing, at minimum, one individual were removed from site AZ V:4:1, also known as Kinishba, in Gila County, AZ. Excavations at this time were legally authorized and were directed by Byron Cummings under the auspices of ASM and the Department of Anthropology at the University of Arizona. No known individuals were identified. No associated funerary objects are present.

Archeological collections from the 1931-1939 excavations were brought to ASM, where they were assigned number AP-CU. On January 1, 1936, additional cultural remains sent from the Western Archaeological and Conservation Center (WACC) to ASM were assigned number AP-40. In 1941 and 1952, ASM loaned collections from site AZ V:4:1 to the Kinishba Museum, to be used for exhibits at the site. On July 24, 1956, following reports of disrepair and vandalism at the Kinishba Museum, these collections were moved back to ASM. On September 22, 1958, Emil Haury made plans to move archeological and museum collections from AZ V:4:1 to the Southwest Archaeological Center (SWAC) in Globe, AZ, in anticipation of a proposed National Monument at the site. On February 5, 1969, the collections housed at SWAC were returned to ASM when it became clear that Kinishba National Monument would not be created. Collection items from this transfer were assigned number AP-2118. On January 1, 1938, August 10, 1953, and February 23, 2003, additional archeological materials from this site were found in ASM collections and were assigned numbers AP-45, AP-647, and AP-CU respectively.

Site AZ V:4:1 is a large, plaza-oriented pueblo containing more than 600 rooms arranged in eight masonry room groups on both sides of a drainage running through the site. It was occupied between around A.D. 1225 and 1450, based on tree-ring dates, architectural forms, building technology, and ceramic styles. These characteristics, as well as the mortuary patterns and other items of material culture recovered at this site, are consistent with the archeologically described Upland Mogollon or prehistoric Western Pueblo tradition.

A detailed discussion on culturally affiliating the archeological sites in this region may be found in Cultural Affiliation Assessment of White Mountain Apache Tribal Lands (Fort Apache Indian Reservation), by John R. Welch and T.J. Ferguson (2005). To summarize, archeologists have used the terms Upland Mogollon or prehistoric Western Pueblo to define the archeological complex represented by the above-described sites. The material culture of these traditions is characterized by a temporal progression from earlier pit houses to later masonry pueblos, villages organized in room blocks of contiguous dwellings associated with plazas, rectangular kivas, polished and paint decorated ceramics, unpainted corrugated ceramics, weaving traditions, inhumation burials, cradleboard cranial deformation, grooved stone axes, and bone artifacts. Archeologists have long linked the Western Pueblo tradition to the present-day Indian Tribes in the region that comprise the Western Pueblo ethnographic group, especially the Hopi Tribe of Arizona and the Zuni Tribe of the Zuni Reservation, New Mexico. The similarities in ceramic traditions, burial practices, architectural forms, and settlement patterns have led archeologists to believe that the prehistoric inhabitants of the Mogollon Rim region migrated north and west to the Hopi mesas, and north and east to the Zuni River Valley. Certain objects found in Upland Mogollon archeological sites bear strong resemblances to ritual paraphernalia that are used in present-day Hopi and Zuni religious practices. Some petroglyphs on the Fort Apache Indian Reservation have also persuaded archeologists that continuities exist between the earlier identified group and current-day Western Pueblo people. In addition, biological information from site AZ P:14:1(ASM) supports the view that the prehistoric occupants of the Upland Mogollon region had migrated from various locations to the north and west of the region.

Hopi and Zuni oral traditions parallel the archeological evidence for migration. Migration figures prominently in Hopi oral tradition, which refers to the ancient sites, pottery, stone tools, petroglyphs, and other artifacts left behind by the ancestors as “Hopi Footprints.” This migration history is complex and detailed. It includes traditions relating specific clans to the Mogollon region. Hopi cultural advisors have also identified medicinal and culinary plants at archeological sites in the region. Their knowledge about these plants was passed down to them from the ancestors who inhabited these ancient sites. Migration is also an important attribute of Zuni oral tradition and includes accounts of Zuni ancestors passing through the Upland Mogollon region. The ancient villages mark the routes of these migrations. Zuni cultural advisors remark that the ancient sites were not abandoned. People returned to these places from time to time, either to reoccupy them or for religious pilgrimages—a practice that has continued to the present day. Archeologists have found ceramic evidence at shrines in the Upland Mogollon region that confirms these reports. Zuni cultural advisors have names for plants endemic to the Mogollon region that do not grow on the Zuni Reservation. They also have knowledge about traditional medicinal and ceremonial uses for these resources, which has been passed down to them from their ancestors. Furthermore, Hopi and Zuni cultural advisors have recognized that their ancestors may have been co-resident at some of the sites in this region during their ancestral migrations.

There are differing points of view regarding the possible presence of Apache people in the Upland Mogollon region during the time that the above sites were occupied. Some Apache traditions describe interactions with Ancestral Puebloan people during this time, but according to these stories, Puebloan people and Apache people were regarded as having separate identities. The White Mountain Apache Tribe of the Fort Apache Reservation, Arizona, does not claim cultural affiliation with the human remains and associated funerary objects from these sites.

Determinations Made by the U.S. Department of the Interior, Bureau of Indian Affairs

Officials of the U.S. Department of the Interior, Bureau of Indian Affairs have determined that:

• Pursuant to 25 U.S.C. 3001(9), the human remains described in this notice represent the physical remains of 23 individuals of Native American ancestry.

• Pursuant to 25 U.S.C. 3001(3)(A), the 18 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona and the Zuni Tribe of the Zuni Reservation, New Mexico (hereafter referred to as “The Tribes”).

Additional Requestors and Disposition

Lineal descendants or representatives of any Indian tribe or Native Hawaiian organization not identified in this notice that wish to request transfer of control of these human remains and associated funerary objects should submit a written request with information in support of the request to Dr. BJ Howerton, NAGPRA Coordinator, Bureau of Indian Affairs, 1001 Indian School Road NW, Room 341, Albuquerque, NM 87104, telephone (505) 563-3013, email BJ.Howerton@bia.gov, by April 22, 2022. After that date, if no additional requestors have come forward, transfer of control of the human remains and associated funerary objects to The Tribes may proceed.

The U.S. Department of the Interior, Bureau of Indian Affairs with assistance of the Arizona State Museum is responsible for notifying The Consulted Tribes that this notice has been published.

Dated: March 17, 2022.
Melanie O'Brien,
Manager, National NAGPRA Program.

[FR Doc. 2022-06130 Filed 3-22-22; 8:45 am]

BILLING CODE 4312-52-P